AFRICAN DEVELOPMENT FOUNDATION

African Development Meeting; Board of Directors Meeting

Time: 10 a.m. to 11:30 a.m.

Place: ADF headquarters.

Date: Wednesday, June 4, 2003.

Status: Open.

Agenda

10 a.m.—Chairman's Report;

10:30 a.m.—President's Report;

11 a.m.—New Business;

11:30 a.m.—Adjournment.

If you have any questions or comments, please direct them to Doris Martin, General Counsel, who may be reached at (202) 673-3916.

Nathaniel Fields,
President.

[FR Doc. 03-13588 Filed 5-27-03; 4:42 pm]

BILLING CODE 6116-01-P